DEPARTMENT OF THE INTERIOR

Fish and Wildlife Service

50 CFR Part 17

[FXES1111090FEDR-256-FF09E21000]

Endangered and Threatened Wildlife and Plants; 90-Day Findings for Eight Species

AGENCY: Fish and Wildlife Service, Interior.

ACTION: Notification of petition findings and initiation of status reviews.

SUMMARY: We, the U.S. Fish and Wildlife Service (Service), announce 90-day findings on seven petitions to add species to, and one petition to remove a species from, the Lists of Endangered and Threatened Wildlife and Plants under the Endangered Species Act of 1973, as amended (Act). Based on our review, we find that the petitions to list the Amargosa toad (Anaxyrus nelsoni), Carson Valley monkeyflower (Erythranthe carsonensis), large marble butterfly (Euchloe ausonides) (including the large marble butterfly type subspecies (Euchloe ausonides ausonides)), Mohave ground squirrel (Xerospermophilus mohavensis), Morrison bumble bee (Bombus morrisoni), Oasis Valley population of Amargosa speckled dace (Rhinichthys nevadensis nevadensis; hereafter referred to as “Oasis Valley speckled dace”), Tennessee bottlebrush crayfish (Barbicambarus simmonsi), and one petition to delist the golden-cheeked warbler (Setophaga chrysoparia) present substantial scientific or commercial information indicating that the petitioned actions may be warranted. Therefore, with the publication of this document, we announce that we are initiating status reviews of these species to determine whether the petitioned actions are warranted. To ensure that the status reviews are comprehensive, we request scientific and commercial data and other information regarding the species and factors that may affect their status. Based on the status reviews, we will issue 12-month petition findings, which will address whether or not the petitioned actions are warranted, in accordance with the Act.

DATES: WThese findings were made on January 21, 2025.

ADDRESSES: Supporting documents: Summaries of the basis for the petition findings contained in this document are available on https://www.regulations.gov under the appropriate docket number (see table 1 under SUPPLEMENTARY INFORMATION). In addition, this supporting information is available by contacting the appropriate person, as specified in FOR FURTHER INFORMATION CONTACT.

Status reviews: If you have new scientific or commercial data or other information concerning the status of, or threats to, the Amargosa toad, Carson Valley monkeyflower, golden-cheeked warbler, large marble butterfly (including the large marble butterfly type subspecies), Mohave ground squirrel, Morrison bumble bee, Oasis Valley speckled dace, and Tennessee bottlebrush crayfish, or their habitats, please provide those data or information by one of the following methods listed below.

(1) Electronically: Go to the Federal eRulemaking Portal: https://www.regulations.gov. In the Search box, enter the appropriate docket number (see table 1 under SUPPLEMENTARY INFORMATION). Then, click on the “Search” button. After finding the correct document, you may submit information by clicking on “Comment.” If your information will fit in the provided comment box, please use this feature of https://www.regulations.gov, as it is most compatible with our information review procedures. If you attach your information as a separate document, our preferred file format is Microsoft Word. If you attach multiple comments (such as form letters), our preferred format is a spreadsheet in Microsoft Excel.

(2) By hard copy: Submit by U.S. mail to: Public Comments Processing, Attn: [Insert appropriate docket number; see table 1 under SUPPLEMENTARY INFORMATION], U.S. Fish and Wildlife Service, MS: PRB/3W, 5275 Leesburg Pike, Falls Church, VA 22041-3803.

We request that you send information only by the methods described above. We will post all information we receive on https://www.regulations.gov. This generally means that we will post any personal information you provide us (see Information Submitted for a Status Review, below).

FOR FURTHER INFORMATION CONTACT:

Species common name | Contact person
Amargosa toad and Oasis Valley speckled dace | Glen Knowles, Field Supervisor, Southern Nevada Fish and Wildlife Office, 702-515-5244, glen_knowles@fws.gov.
Carson Valley monkeyflower | Kristin Jule, Field Supervisor, Reno Fish and Wildlife Office, 775-861-6337, kristin_jule@fws.gov.
Golden-cheeked warbler | Michael Warriner, Supervisory Fish and Wildlife Biologist, Austin Ecological Services Field Office, 512-937-7371, michael_warriner@fws.gov.
Large marble butterfly (including the large marble type subspecies) | Michael Fris, Field Supervisor, Sacramento Fish and Wildlife Office, 916-425-0099, michael_fris@fws.gov.
Mohave ground squirrel | Scott Sobiech, Field Supervisor, Carlsbad Fish and Wildlife Office, 760-431-9440, scott_sobiech@fws.gov.
Morrison bumble bee | Shawn Sartorius, Field Supervisor, New Mexico Ecological Services Field Office, 505-761-4781, shawn_sartorius@fws.gov.
Tennessee bottlebrush crayfish | Bill Pearson, Field Supervisor, Alabama Ecological Services Field Office, 251-441-5870, bill_pearson@fws.gov.

Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION:

Information Submitted for a Status Review

You may submit your comments and materials concerning the status of, or threats to, the Amargosa toad, Carson Valley monkeyflower, golden-cheeked warbler, large marble butterfly (including the large marble butterfly type subspecies), Mohave ground squirrel, Morrison bumble bee, Oasis Valley speckled dace, and Tennessee bottlebrush crayfish, or their habitats, by one of the methods listed in ADDRESSES. We request that you send comments only by the methods described in ADDRESSES. Please include sufficient information with your submission (such as scientific journal articles or other publications) to allow us to verify any scientific or commercial information you include.

If you submit information via https://www.regulations.gov, your entire submission—including any personal identifying information—will be posted on the website. If your submission is made via a hardcopy that includes personal identifying information, you may request at the top of your document that we withhold this information from public review. However, we cannot guarantee that we will be able to do so. We will post all hardcopy submissions on https://www.regulations.gov.

Comments and materials we receive, as well as supporting documentation we used in preparing these findings, will be available for public inspection on https://www.regulations.gov.

Background

Section 4 of the Act (16 U.S.C. 1533) and its implementing regulations in title 50 of the Code of Federal Regulations (50 CFR part 424) set forth the procedures for adding species to, removing species from, or reclassifying species on the Federal Lists of Endangered and Threatened Wildlife and Plants (Lists or List) in 50 CFR part 17. Section 4(b)(3)(A) of the Act requires that we make a finding on whether a petition to add a species to the List (i.e., “list” a species), remove a species from the List (i.e., “delist” a species), or change a listed species' status from endangered to threatened or from threatened to endangered (i.e., “reclassify” a species) presents substantial scientific or commercial information indicating that the petitioned action may be warranted. To the maximum extent practicable, we are to make this finding within 90 days of our receipt of the petition and publish the finding promptly in the Federal Register.

In 2016, the Service and the National Marine Fisheries Service of the Department of Commerce revised the regulations that outline the procedures for evaluating petitions (81 FR 66462; September 27, 2016). These regulations at 50 CFR 424.14 were effective October 27, 2016. These current regulations establish that substantial scientific or commercial information with regard to a 90-day petition finding refers to credible scientific or commercial information in support of the petition's claims such that a reasonable person conducting an impartial scientific review would conclude that the action proposed in the petition may be warranted (50 CFR 424.14(h)(1)(i)). A positive 90-day petition finding does not indicate that the petitioned action is warranted; the finding indicates only that the petitioned action may be warranted and that a full review should occur. When evaluating the seven petitions (received after September 27, 2016) to add species to the Lists of Endangered and Threatened Wildlife and Plants, we applied the current regulations at 50 CFR 424.14.

We received the petition to delist the golden-cheeked warbler prior to the effective date of the current regulations. Therefore, we evaluated the golden-cheeked warbler petition under the 50 CFR 424.14 requirements that were in effect prior to October 27, 2016, as those requirements applied when the petition was received. The regulations in effect prior to October 27, 2016, establish that the standard for substantial scientific or commercial information with regard to a 90-day petition finding is “that amount of information that would lead a reasonable person to believe that the measure proposed in the petition may be warranted” (former 50 CFR 424.14(b)).

A species may be determined to be an endangered species or a threatened species because of one or more of the five factors described in section 4(a)(1) of the Act (16 U.S.C. 1533(a)(1)). The five factors are:

(a) The present or threatened destruction, modification, or curtailment of its habitat or range (Factor A);

(b) Overutilization for commercial, recreational, scientific, or educational purposes (Factor B);

(c) Disease or predation (Factor C);

(d) The inadequacy of existing regulatory mechanisms (Factor D); and

(e) Other natural or manmade factors affecting its continued existence (Factor E).

These factors represent broad categories of natural or human-caused actions or conditions that could have an effect on a species' continued existence. In evaluating these actions and conditions, we look for those that may have a negative effect on individuals of the species, as well as other actions or conditions that may ameliorate any negative effects or may have positive effects.

We use the term “threat” to refer in general to actions or conditions that are known to, or are reasonably likely to, affect individuals of a species negatively. The term “threat” includes actions or conditions that have a direct impact on individuals (direct impacts), as well as those that affect individuals through alteration of their habitat or required resources (stressors). The term “threat” may encompass—either together or separately—the source of the action or condition, or the action or condition itself. However, the mere identification of any threat(s) may not be sufficient to compel a finding that the information in the petition is substantial information indicating that the petitioned action may be warranted. The information presented in the petition must include evidence sufficient to suggest that these threats may be affecting the species to the point that the species may meet the definition of an endangered species or threatened species under the Act.

If we find that a petition presents such information, our subsequent status review will evaluate all identified threats by considering the individual-, population-, and species-level effects and the expected response by the species. We will evaluate individual threats and their expected effects on the species, then analyze the cumulative effect of the threats on the species as a whole. We also consider the cumulative effect of the threats in light of those actions and conditions that are expected to have positive effects on the species—such as any existing regulatory mechanisms or conservation efforts that may ameliorate threats. It is only after conducting this cumulative analysis of threats and the actions that may ameliorate them, and the expected effect on the species now and in the foreseeable future, that we can determine whether the species meets the definition of an endangered species or threatened species under the Act.

If we find that a petition presents substantial scientific or commercial information indicating that the petitioned action may be warranted, the Act requires that we promptly commence a review of the status of the species, and we will subsequently complete a status review in accordance with our prioritization methodology for 12-month findings (81 FR 49248; July 27, 2016).

We note that designating critical habitat is not a petitionable action under the Act. Petitions to designate critical habitat (for species without existing critical habitat) are reviewed under the Administrative Procedure Act (5 U.S.C. 551 et seq.) and are not addressed in these findings (see 50 CFR 424.14(j)). To the maximum extent prudent and determinable, any proposed critical habitat will be addressed concurrently with a proposed rule to list a species, if applicable.

Summaries of Petition Findings

The petition findings contained in this document are listed in the tables below, and the basis for each finding, along with supporting information, is available on https://www.regulations.gov under the appropriate docket number.

Table 1—Status Reviews
Common name | Docket No. | URL to docket on https://www.regulations.gov
Amargosa toad | FWS-R8-ES-2024-0176 | https://www.regulations.gov/docket/FWS-R8-ES-2024-0176.
Carson Valley monkeyflower | FWS-R8-ES-2024-0100 | https://www.regulations.gov/docket/FWS-R8-ES-2024-0100.
Golden-cheeked warbler | FWS-R2-ES-2024-0179 | https://www.regulations.gov/docket/FWS-R2-ES-2024-0179.
Large marble butterfly (including the large marble type subspecies) | FWS-R8-ES-2024-0097 | https://www.regulations.gov/docket/FWS-R8-ES-2024-0097.
Mohave ground squirrel | FWS-R8-ES-2024-0098 | https://www.regulations.gov/docket/FWS-R8-ES-2024-0098.
Morrison bumble bee | FWS-R2-ES-2024-0099 | https://www.regulations.gov/docket/FWS-R2-ES-2024-0099.
Oasis Valley speckled dace | FWS-R8-ES-2024-0177 | https://www.regulations.gov/docket/FWS-R8-ES-2024-0177.
Tennessee bottlebrush crayfish | FWS-R4-ES-2024-0101 | https://www.regulations.gov/docket/FWS-R4-ES-2024-0101.

Evaluation of a Petition To List Amargosa Toad

Species and Range

Amargosa toad (Anaxyrus nelsoni); Nye County, Nevada.

Petition History

On May 29, 2024, we received a petition from the Center for Biological Diversity (CBD), requesting that the Amargosa toad (Anaxyrus nelsoni) be listed as a threatened species or an endangered species and critical habitat be designated for this species under the Act. The petitioner also asked that we consider using the emergency provisions of the Act to list the species. The petition clearly identified itself as such and included the requisite identification information for the petitioner, required at 50 CFR 424.14(c). Listing a species on an emergency basis is not a petitionable action under the Act, and the question of when to list on an emergency basis is left to the discretion of the Service. If the Service determines that the standard for emergency listing in section 4(b)(7) of the Act is met, the Service may exercise that discretion to take an emergency listing action at any time. At this time, the Service has not determined that the standard for emergency listing has been met. Therefore, we are considering the May 29, 2024, petition as a petition to list the Amargosa toad. This finding addresses the petition.

Finding

We reviewed the petition, sources cited in the petition, and other readily available information (within the constraints of the Act and 50 CFR 424.14(h)(1)). We considered the credible information that the petition provided regarding effects of the threats that fall within factors under the Act's section 4(a)(1) as potentially ameliorated or exacerbated by any existing regulatory mechanisms or conservation efforts. Based on our review of the petition and readily available information regarding gold mining (Factor A), we find that the petition presents substantial scientific or commercial information indicating that listing the Amargosa toad as an endangered species or a threatened species may be warranted.

The petitioners also presented information suggesting solar energy development, wild burros, livestock grazing, off-road vehicles, road maintenance and runoff, invasive plants, water abstraction and diversion, chytridiomycosis, predation by bullfrogs and nonnative crayfish, hybridization with Woodhouse's toad (Anaxyrus woodhousii), climate change, and stochastic events may be threats to the Amargosa toad. We will fully evaluate these potential threats during our 12-month status review, pursuant to the Act's requirement to review the best scientific and commercial information available when making that finding.

The basis for our finding on this petition and other information regarding our review of the petition can be found as an appendix at https://www.regulations.gov under Docket No. FWS-R8-ES-2024-0176 under the Supporting Documents section.

Evaluation of a Petition To List the Carson Valley Monkeyflower

Species and Range

Carson Valley monkeyflower (Erythranthe carsonensis); Carson City, Douglas, Lyon, and Washoe Counties, Nevada; Alpine County, California.

Petition History

On January 8, 2024, we received a petition from CBD requesting that the Carson Valley monkeyflower (Erythranthe carsonensis) be listed as a threatened species and critical habitat be designated for this species under the Act. The petition clearly identified itself as such and included the requisite identification information for the petitioner, required at 50 CFR 424.14(c). This finding addresses the petition.

Finding

We reviewed the petition, sources cited in the petition, and other readily available information (within the constraints of the Act and 50 CFR 424.14(h)(1)). We considered the credible information that the petition provided regarding effects of the threats that fall within factors under the Act's section 4(a)(1) as potentially ameliorated or exacerbated by any existing regulatory mechanisms or conservation efforts. Based on our review of the petition and readily available information regarding habitat loss associated with commercial, residential, and industrial development (Factor A), we find that the petition presents substantial scientific or commercial information indicating that listing the Carson Valley monkeyflower as an endangered species or a threatened species may be warranted.

The petitioners also presented information suggesting road development and maintenance, off-highway vehicle use, other recreational use, mineral exploration and development, trash dumping, utility corridor development and maintenance, animal grazing and trampling, fire and fire suppression activities, flooding, and stormwater management may be threats to the Carson Valley monkeyflower. We will fully evaluate these potential threats during our 12-month status review, pursuant to the Act's requirement to review the best scientific and commercial information available when making that finding.

The basis for our finding on this petition and other information regarding our review of the petition can be found as an appendix at https://www.regulations.gov under Docket No. FWS-R8-ES-2024-0100 under the Supporting Documents section.

Evaluation of a Petition To Delist the Golden-Cheeked Warbler

Species and Range

Golden-cheeked warbler (Setophaga chrysoparia); Texas, United States; Chiapas, Mexico; and Central America (Guatemala, Honduras, Nicaragua, and El Salvador).

Petition History

On June 30, 2015, we received a petition dated June 29, 2015, from Nancie G. Marzulla (Marzulla Law, LLC—Washington, DC) and Robert Henneke (Texas Public Policy Foundation—Austin, TX) requesting that the golden-cheeked warbler (Setophaga chrysoparia) be delisted under the Act due to recovery or error in information. The petition clearly identified itself as a petition and included the requisite identification information for the petitioner, as required by the former 50 CFR 424.14(a). No information is presented that would suggest that the species was originally listed due to an error in information. The golden-cheeked warbler is a taxonomically unique species and was shown to be in danger of extinction at the time of the listing.

On December 11, 2015, we received supplemental information from the petitioners that included additional published studies and an unpublished report. The studies and report, as well as other studies known to the Service and in our files at the time the supplement was received, were considered, as appropriate. On June 3, 2016, we published in the Federal Register (81 FR 35698) our finding that the petition did not provide substantial scientific or commercial information indicating that the petition action (i.e., delisting) may be warranted. The General Land Office of Texas (GLO) challenged this negative 90-day finding on the petition to delist. The District Court found in favor of the Service. The GLO appealed the decision, and the Circuit Court vacated the 90-day finding and remanded it to the Service. On July 27, 2021, the Service published another 90-day finding in the Federal Register (86 FR 40186) that the petition did not present substantial scientific or commercial information indicating that the petitioned action was warranted. The GLO filed suit against the Service on January 12, 2022, challenging the new 90-day finding. On September 5, 2024, the District Court vacated and remanded the July 27, 2021, 90-day finding to the Service. This finding addresses the petition as remanded by the District Court.

Finding

We reviewed the petition, sources cited in the petition, supplemental information provided, and other readily available information (within the constraints of the Act and former 50 CFR 424.14(b)). We considered the information that the petition provided regarding effects of the threats that fall within factors under section 4(a)(1) as potentially ameliorated or exacerbated by any existing regulatory mechanisms or conservation efforts. The petitioner provided substantial information indicating that greater amounts of golden-cheeked warbler habitat occur across the species range, the species is capable of utilizing smaller habitat patches, and warblers are more abundant than previously thought (Factor A). Additionally, oak wilt may not be as significant of a stressor to warbler habitat (Factor E). Based on our review of the petition, sources cited in the petition, and other readily available information, we find that the petition presents substantial scientific or commercial information indicating that delisting the golden-cheeked warbler may be warranted. We will fully evaluate these potential threats during our 12-month status review, pursuant to the Act's requirements to review the best scientific and commercial data available when making that finding.

The basis for our finding on this petition and other information regarding our review of the petition can be found as an appendix at https://www.regulations.gov under Docket No. FWS-R2-ES-2024-0179 under the Supporting Documents section.

Evaluation of a Petition To List the Large Marble Butterfly and the Large Marble Type Subspecies

Species and Range

Large marble butterfly (Euchloe ausonides); Alaska, California, Colorado, Idaho, Michigan, Minnesota, Montana, Nebraska, New Mexico, North Dakota, Oregon, South Dakota, Utah, Washington, and Wyoming, United States; Yukon Territory, British Columbia, Northwest Territories, Nunavut, Alberta, Saskatchewan, Manitoba, and Ontario, Canada.

Large marble butterfly type subspecies (Euchloe ausonides ausonides); central western California.

Petition History

On October 3, 2023, we received a petition from the Xerces Society for Invertebrate Conservation, requesting that the large marble butterfly be listed as a threatened species and the large marble type subspecies be listed as an endangered species under the Act. The petition clearly identified itself as such and included the requisite identification information for the petitioner, required at 50 CFR 424.14(c). This finding addresses the petition.

Finding

We reviewed the petition, sources cited in the petition, and other readily available information (within the constraints of the Act and 50 CFR 424.14(h)(1)). We considered the credible information that the petition provided regarding effects of the threats that fall within factors under the Act's section 4(a)(1) as potentially ameliorated or exacerbated by any existing regulatory mechanisms or conservation efforts. Based on our review of the petition and readily available information regarding habitat loss and degradation from urbanization (Factor A), we find that the petition presents substantial scientific or commercial information indicating that listing the large marble butterfly as a threatened species and that listing the large marble butterfly type subspecies as an endangered species may be warranted.

The petitioners also presented information suggesting that habitat conversion to agriculture, livestock grazing, herbicide impacts to nectar and host plants, changes in wildfire regimes, predation by nonnative predators and parasitoids, pesticide use, climate change, and loss of genetic diversity may be threats to the large marble butterfly and the E. a. ausonides subspecies. We will fully evaluate these potential threats during our 12-month status review, pursuant to the Act's requirement to review the best scientific and commercial information available when making that finding.

The basis for our finding on this petition and other information regarding our review of the petition can be found as an appendix at https://www.regulations.gov under Docket No. FWS-R8-ES-2024-0097 under the Supporting Documents section.

Evaluation of a Petition To List the Mohave Ground Squirrel

Species and Range

Mohave ground squirrel (Xerospermophilus mohavensis); southwestern Inyo, eastern Kern, northeastern Los Angeles, and northwestern San Bernardino counties, California.

Petition History

On December 13, 2023, we received a petition from Defenders of Wildlife, Desert Tortoise Preserve Committee, Inc., Mohave Ground Squirrel Conservation Council, and Dr. Philip Leitner, requesting that the Mohave ground squirrel be listed as a threatened species and that critical habitat be designated under the Act. The petition clearly identified itself as such and included the requisite identification information for the petitioner, required at 50 CFR 424.14(c). This finding addresses the petition.

Finding

We reviewed the petition, sources cited in the petition, and other readily available information (within the constraints of the Act and 50 CFR 424.14(h)(1)). We considered the credible information that the petition provided regarding effects of the threats that fall within factors under the Act's section 4(a)(1) as potentially ameliorated or exacerbated by any existing regulatory mechanisms or conservation efforts. Based on our review of the petition and readily available information regarding habitat loss, degradation, and fragmentation (Factor A), we find that the petition presents substantial scientific or commercial information indicating that listing the Mohave ground squirrel as an endangered or a threatened species may be warranted. The petitioners also presented information suggesting commercial filming activities, hybridization, competition, and climate change may be threats to the Mohave ground squirrel. We will fully evaluate these potential threats during our 12-month status review, pursuant to the Act's requirement to consider the best scientific and commercial information available when making that finding.

The basis for our finding on this petition and other information regarding our review of the petition can be found as an appendix at https://www.regulations.gov under Docket No. FWS-R8-ES-2024-0098 under the Supporting Documents section.

Evaluation of a Petition To List Morrison Bumble Bee

Species and Range

Morrison bumble bee (Bombus morrisoni); eastern Sierra Nevada Mountain range, through northeastern Arizona and northern New Mexico, north to Colorado and Rocky Mountains in the east, and portions of Idaho and Washington.

Petition History

On November 16, 2023, we received a petition from the Xerces Society requesting that the Morrison bumble bee (Bombus morrisoni) be listed as either a threatened species or endangered species under the Act. The petition clearly identified itself as such and included the requisite identification information for the petitioner, required at 50 CFR 424.14(c). This finding addresses the petition.

Finding

We reviewed the petition, sources cited in the petition, and other readily available information (within the constraints of the Act and 50 CFR 424.14(h)(1)). We considered the credible information that the petition provided regarding the effects of the threats that fall within factors under the Act's section 4(a)(1) as may be ameliorated or exacerbated by existing regulatory mechanisms or conservation efforts. Based on our review of the petition and sources cited in the petition regarding pesticides (Factor E), livestock overgrazing (Factor A), urban development (Factor A), agricultural intensification (Factor A), pathogens and parasites (Factor C), and global climate change (Factor E), we find that the petition presents substantial scientific or commercial information indicating that listing the Morrison bumble bee as an endangered or threatened species may be warranted.

The petitioners also present information suggesting the following may be threats to the Morrison bumble bee: energy development and mining; overutilization for commercial, recreational scientific or educational purposes; pathogen spillover; the effects of small, isolated populations; and competition with commercial honeybees. The petition also suggests that despite the existing regulatory mechanisms, potential threats continue to negatively affect the species. We will fully evaluate these potential threats during our status review, pursuant to the Act's requirement to review the best scientific and commercial information available when making our 12-month finding.

The basis for our finding on this petition and other information regarding our review of the petition can be found as an appendix at https://www.regulations.gov under Docket No. FWS-R2-ES-2024-0099 under the Supporting Documents section.

Evaluation of a Petition To List the Oasis Valley Speckled Dace

Species and Range

Amargosa speckled dace [Oasis Valley distinct population segment] (Rhinichthys nevadensis nevadensis) (=Oasis Valley speckled dace)—provisional determination; Nye County, Nevada.

Petition History

On July 2, 2024, we received a petition from CBD, requesting that the Oasis Valley speckled dace distinct population segment of Amargosa speckled dace be listed as a threatened species or an endangered species and critical habitat be designated for this species under the Act. Based on our review of the petition, sources cited in the petition, and other readily available information, we find that the petition presents substantial information that the Oasis Valley population may be discrete based on marked separation from other populations of the taxon as a consequence of physical separation and evidenced by genetic differences. This suggests that the petitioned population segment differs markedly from other populations of Amargosa speckled dace in its genetic characteristics. As such, the petitioned population segment may be significant per criterion 4 of our DPS policy due to evidence that the population segment differs markedly from other populations of the species in its genetic characteristics (61 FR 4725). Therefore, we find that the petition provides substantial scientific or commercial information indicating that the petitioned entity may qualify as a DPS and, therefore, that it may be a listable entity under the Act. For the purposes of this 90-day finding evaluation, we will use the generally recognized common name—Oasis Valley speckled dace—to refer to the Oasis Valley population of Amargosa speckled dace that occurs in the watershed of the Amargosa River in Oasis Valley, Nevada.

The petitioner also asked that we consider using the emergency provisions of the Act to list the species. The petition clearly identified itself as such and included the requisite identification information for the petitioner, required at 50 CFR 424.14(c). Listing a species on an emergency basis is not a petitionable action under the Act, and the question of when to list on an emergency basis is left to the discretion of the Service. If the Service determines that the standard for emergency listing in section 4(b)(7) of the Act is met, the Service may exercise that discretion to take an emergency listing action at any time. Therefore, we are considering the July 2, 2024, petition as a petition to list the Oasis Valley speckled dace. This finding addresses the petition.

Finding

We reviewed the petition, sources cited in the petition, and other readily available information (within the constraints of the Act and 50 CFR 424.14(h)(1)). We considered the credible information that the petition provided regarding effects of the threats that fall within factors under the Act's section 4(a)(1) as potentially ameliorated or exacerbated by any existing regulatory mechanisms or conservation efforts. Based on our review of the petition and readily available information] regarding gold mining (Factor A), we find that the petition presents substantial scientific or commercial information indicating that listing the Oasis Valley speckled dace as an endangered species or a threatened species may be warranted.

The petitioners also presented information suggesting solar energy development, water diversions, livestock grazing, wild burros, invasive species, climate change, and the effects of isolated populations may be threats to the Oasis Valley speckled dace We will fully evaluate these potential threats during our 12-month status review, pursuant to the Act's requirement to review the best scientific and commercial information available when making that finding.

The basis for our finding on this petition and other information regarding our review of the petition can be found as an appendix at https://www.regulations.gov under Docket No. FWS-R8-ES-2024-0177 under the Supporting Documents section.

Evaluation of a Petition To List Tennessee Bottlebrush Crayfish

Species and Range

Tennessee bottlebrush crayfish (Barbicambarus simmonsi); Lawrence County, Tennessee, and Lauderdale County, Alabama.

Petition History

On June 16, 2023, we received a petition from CBD, requesting that the Tennessee bottlebrush crayfish (Barbicambarus simmonsi) be listed as a threatened or endangered species and critical habitat be designated for this species under the Act. The petition clearly identified itself as such and included the requisite identification information for the petitioner, required at 50 CFR 424.14(c). This finding addresses the petition.

Finding

We reviewed the petition, sources cited in the petition, and other readily available information (within the constraints of the Act and 50 CFR 424.14(h)(1)). We considered the credible information that the petition provided regarding effects of the threats that fall within factors under the Act's section 4(a)(1) as potentially ameliorated or exacerbated by any existing regulatory mechanisms or conservation efforts. Based on our review of the petition and readily available information regarding habitat destruction and alteration from the effects of dams and land use practices including agriculture, silviculture, urban runoff, and wastewater treatment facilities (Factor A), we find that the petition presents substantial scientific or commercial information indicating that listing the Tennessee bottlebrush crayfish as an endangered species or a threatened species may be warranted.

The petitioners also presented information suggesting overutilization or collection and impacts of climate change may be threats to the Tennessee bottlebrush crayfish. The petitioners also provided information that, despite the existing regulatory mechanisms, these potential threats are still affecting the species. We will fully evaluate these potential threats during our 12-month status review, pursuant to the Act's requirement to review the best scientific and commercial information available when making that finding.

The basis for our finding on this petition and other information regarding our review of the petition can be found at https://www.regulations.gov under Docket No. FWS-R4-ES-2024-0101 under the Supporting Documents section.

Conclusion

On the basis of our evaluation of the information presented in the petitions under section 4(b)(3)(A) of the Act, we have determined that the petitions summarized above for the Amargosa toad, Carson Valley monkeyflower, golden-cheeked warbler, large marble butterfly (including the large marble butterfly type subspecies), Mohave ground squirrel, Morrison bumble bee, Oasis Valley speckled dace, and Tennessee bottlebrush crayfish present substantial scientific or commercial information indicating that the petitioned actions may be warranted. We are, therefore, initiating status reviews of these species to determine whether the actions are warranted under the Act. At the conclusion of the status reviews, we will issue findings, in accordance with section 4(b)(3)(B) of the Act, as to whether the petitioned actions are not warranted, warranted, or warranted but precluded by pending proposals to determine whether any species is an endangered species or a threatened species.

Authors

The primary authors of this document are staff members of the Ecological Services Program, U.S. Fish and Wildlife Service.

Authority

The authority for these actions is the Endangered Species Act of 1973, as amended (16 U.S.C. 1531 et seq.).

Martha Williams,
Director, U.S. Fish and Wildlife Service.

[FR Doc. 2025-01118 Filed 1-17-25; 8:45 am]

BILLING CODE 4333-15-P